COMMISSION ON CIVIL RIGHTS

Notice of Sunshine Act Meeting

AGENCY: U.S. Commission on Civil Rights.

DATE AND TIME: Friday, March 9, 2007, 9 a.m.

PLACE: U.S. Commission on Civil Rights, 624 Ninth Street, NW., Rm. 540, Washington, DC 20425.

Meeting Agenda

I. Approval of Agenda.

II. Approval of Minutes of March 1, Meeting.

III. Announcements.

IV. Staff Director's Report.

V. Management and Operations.

• Procedures for Briefing Reports.

• Strategic Planning.

VI. Program Planning.

• Affirmative Action in Law Schools Briefing Report.

VII. State Advisory Committee Issues.

• Fair Housing Initiative.

• Tennessee SAC.

VIII. Future Agenda Items.

IX. Adjourn.

Briefing Agenda

Domestic Wiretapping in the War on Terror.

• Introductory Remarks by Chairman.

• Speakers' Presentation.

• Questions by Commissioners and Staff Director.

FOR FURTHER INFORMATION CONTACT: Manuel Alba, Press and Communications, (202) 376-8582.

David P. Blackwood,
General Counsel.

[FR Doc. 07-980 Filed 2-27-07; 2:30 pm]

BILLING CODE 6335-01-P